COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes a product and services from the Procurement List previously furnished by such agencies.

DATES: Effective Date: 4/20/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 1/16/2015 (80 FR 2400-2401) and 2/13/2015 (80 FR 8068-8069), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Product Names/NSNs: Kit, Gifts for Santa/MR 385

Christmas Sticker Book/MR 378

Mandatory Source of Supply: Winston-Salem Industries for the Blind, Inc., Winston-Salem, NC

Slotted Spoon, Red/MR 390

Slotted Turner, Red/MR 391

Tongs, Red/MR 392

Slotted Spoon/MR 393, Green

Slotted Turner/MR 394 Green

Tongs, Green/MR 395

Mandatory Source of Supply: Industries for the Blind, Inc., West Allis, WI

Mandatory for Purchase By: Defense Commissary Agency, Fort Lee, VA

Distribution: C-List

Service

Service Type: Janitorial Service

Service is Mandatory for: USDA, Agricultural Research Service, Southern Plains Agricultural Research Center, 2881 F&B Road College Station, TX

Mandatory Source of Supply: Rising Star Resource Development Corporation, Dallas, TX

Contracting Activity: Dept of Agriculture, Agricultural Research Service, ARS WBSC 32SD, Beltsville, MD

Deletions

On 2/13/2015 (80 FR 8068-8069), the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

Product Name/NSNs: Folder, Zebley Claim

7530-00-000-0430

7530-00-000-0432

Mandatory Source of Supply: Goodwill Industries of the Pioneer Valley, Inc., Springfield, MA

Contracting Activity: Social Security Administration Hdqtrs-Office of Acquisition & Grants, Baltimore, MD

Services

Service Type: Custodial Service

Service is Mandatory for: USDA, Laboratory Research Building

6301 W. 750 North

West Lafayette, IN

Mandatory Source of Supply: Wabash Center, Inc., Lafayette, IN

Contracting Activity: Dept of Agriculture, Agricultural Research Service, USDA ARS MWA 52KJ, Lafayette, IN

Service Type: Microfilming Service

Service is Mandatory for: Commodities Future Trading Commission

1155 21st Street

Washington, DC

Mandatory Source of Supply: No NPA Assigned

Contracting Activity: Commodity Futures Trading Commission

Administrative Services, Washington, DC

Barry S. Lineback,
Director, Business Operations.

[FR Doc. 2015-06417 Filed 3-19-15; 8:45 am]

BILLING CODE 6353-01-P